DEPARTMENT OF COMMERCE

National Oceanic and Atmospheric Administration

[RTID 0648-XD752]

Fisheries of the Caribbean, Gulf of Mexico, and South Atlantic; Exempted Fishing Permits

AGENCY: National Marine Fisheries Service (NMFS), National Oceanic and Atmospheric Administration (NOAA), Commerce.

ACTION: Notice of receipt of two applications for exempted fishing permits; request for comments.

SUMMARY: NMFS announces the receipt of two applications for exempted fishing permits (EFPs) from the Florida Fish and Wildlife Conservation Commission (FWC). If granted, the EFPs would authorize limited recreational harvest of red snapper outside of any Federal recreational season in South Atlantic Federal waters and exempt that harvest from the red snapper recreational bag and possession limits, recreational annual catch limits (ACLs), and accountability measures (AMs). FWC's projects are intended to test alternative recreational management strategies that could be used by the South Atlantic Fishery Management Council (Council) to reduce the numbers of discards of red snapper and other federally managed snapper-grouper species, create additional opportunities to participate in sustainable recreational harvest, and improve angler satisfaction.

DATES: Written comments must be received on or before April 22, 2024.

ADDRESSES: You may submit comments on the applications, identified by [NOAA-NMFS-2024-0035] by any of the following methods:

• Electronic Submission: Submit all electronic public comments via the Federal e-Rulemaking Portal. Visit https://www.regulations.gov and type [NOAA-NMFS-2024-0035] in the Search box. Click the “Comment” icon, complete the required fields, and enter or attach your comments.

• Mail: Rick DeVictor, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP applications may be obtained from the Southeast Regional Office website at https://www.fisheries.noaa.gov/southeast/recreational-fishing/south-atlantic-red-snapper-exempted-fishing-permit-applications. This notice discusses applications 1 and 3 on the website.

FOR FURTHER INFORMATION CONTACT: Caroline Potter, 727-824-5305; email: caroline.potter@noaa.gov.

SUPPLEMENTARY INFORMATION: The EFPs are requested under the authority of the Magnuson-Stevens Fishery Conservation and Management Act (Magnuson-Stevens Act; 16 U.S.C. 1801 et seq.), and regulations at 50 CFR 600.745(b) concerning exempted fishing.

The projects described in these EFP requests are two of several projects that NMFS has recommended for funding based on a notice of funding opportunity that NMFS published last fall, seeking projects that would explore new approaches to better understand and reduce red snapper dead discards and increase fishing opportunities in the South Atlantic snapper-grouper fishery.

The most recent South Atlantic red snapper stock assessment (Southeast Data, Assessment, and Review (SEDAR) 73, 2021) indicates that the South Atlantic red snapper stock is undergoing overfishing and is overfished. Discard mortality continues to be the primary source of fishing mortality, with a high number of discards coming from the recreational sector. Therefore, NMFS has identified a need to test management strategies that could be used by the Council to reduce recreational discards of red snapper and other managed snapper-grouper species, ensure opportunities for sustainable harvest, and improve angler satisfaction.

Considering this need, the FWC has proposed two projects that would accomplish the following objectives: (1) Directly collaborate with members of the snapper-grouper recreational sector and collect catch and discard information at a representative scale within the snapper-grouper fishery; (2) Recruit recreational fishermen to test a unique snapper-grouper aggregate recreational bag limit, and compare that with control groups to quantify the potential impact alternative management strategies have on reducing the magnitude of snapper-grouper regulatory discards; (3) Allow a select number of recreational fishermen recruited for these projects to harvest red snapper outside of the South Atlantic Federal red snapper recreational season, accompanied by a mandatory reporting requirement and provisions for validation and proof of participation; (4) Develop a unique web-based application to record information from project participants; (5) Develop an education course required for all project participants that highlights best fishing practices, species identification, and methods to safely descend fish experiencing barotrauma; and (6) Evaluate recreational fisherman satisfaction through pre- and post-participation surveys and semi-structured interviews with project participants.

NMFS notes that this notification of receipt of applications for EFPs encompasses two FWC projects. Each of these projects is identical in project scope, purpose, and exempted Federal regulations. The primary differences between the two requested projects are location of the project and the maximum allowed number of recreational fishing trips per participant for each location.

One proposed project boundary is offshore of the east coast of Florida from the Florida/Georgia state line south to 28°35.1′ north latitude in the Atlantic Ocean (due east of the NASA Vehicle Assembly Building, Cape Canaveral, Florida). The other project boundary is offshore of the east coast of Florida from 28°35.1′ north latitude in the Atlantic Ocean (due east of the NASA Vehicle Assembly Building, Cape Canaveral, Florida) south to the Dry Tortugas, the southern boundary of the South Atlantic Fishery Management Council jurisdictional waters(50 CFR 600.105(c)). The project locations includes state and Federal waters, but FWC expects that the majority of snapper-grouper harvest and fishing effort would occur in Federal waters.

The EFPs would begin on July 1, 2024, and end on June 30, 2025. FWC would solicit applications from individual recreational fishermen who would be entered into a lottery to participate in either study. The application and lottery process, both administered by FWC, would occur once every 3 months and FWC would select 200 participants for each 3-month study. Participants would be screened by the FWC for resource violations and randomly assigned to either a control group or an experimental group. Participants in the northern study would be referred to as the “Experimental Hot Spot Fleet” and participants in the southern study would be referred to as the “Southeast Florida Snapper Grouper Fleet.” Each participant would be required to hold a valid saltwater recreational fishing license issued by the State of Florida (or be state exempt), have declared themselves a Florida State Reef Fish Survey angler, and take an educational course aimed at reducing discard mortality of snapper-grouper species. The EFPs would only apply to recreational fishermen who apply for and are selected to be part of FWC's Experimental Hot Spot Fleet or Southeast Florida Snapper-Grouper Fleet. Therefore, under each EFP, for each 3-month period, FWC would be able to account for and provide NMFS with a list of participants (e.g., state license, registration of each vessel and vessel name during designated fishing trips, name of participants and contact information, etc.) to be covered under each EFP before operations begin under the EFPs.

Every 3 months during the 12-month fishing period of each EFP, half of the fishermen would be selected for a control group and the other half for an experimental group. Participants assigned to the control group of either fleet would follow the current recreational Federal regulations for snapper-grouper species. Each participant in the Experimental Hot Spot Fishing Fleet, regardless of group assignment, would be able to take a maximum of three recreational fishing trips per 3-month period. Each participant in the Southeast Florida Snapper-Grouper Fleet, regardless of group assignment, would be able to take a maximum of two recreational fishing trips per 3-month period.

For both fleets, participants assigned to an experimental group would be permitted to harvest no more than 15 fish under a unique snapper-grouper aggregate bag limit per person per day in state and Federal waters combined, in addition to the three red snapper described below. Participants in an experimental group would be required to stop directed snapper-grouper recreational trips once their unique aggregate snapper-grouper bag limit has been reached, and they would not be allowed to target or harvest any snapper-grouper species managed by the Council for the remainder of the trip. Participants may then target other species such as coastal migratory pelagics and dolphinfish. In addition to the unique aggregate bag limit described above, participants in an experimental group would be allowed to harvest three red snapper outside of any Federal red snapper recreational fishing season under the EFPs until the unique aggregate snapper-grouper bag limit is reached. If approved, the EFPs would exempt those recreational fishermen in an experimental group participating in FWC's Experimental Hot Spot Fleet or Southeast Florida Snapper-Grouper Fleet from the Federal regulations at 50 CFR 622.183(b)(5) (recreational sector closures for red snapper), 50 CFR 622.187(b)(9) (bag and possession limits for red snapper), and 50 CFR 622.193(y)(2) (ACLs and AMs for red snapper). The FWC is not requesting exemptions from any Federal regulations other than these. Participants would have to abide by all fishery regulations otherwise not exempted from this study.

Under the EFPs, the unique 15-fish snapper-grouper aggregate recreational bag limit requested by FWC is as follows:

• Only 1 fish can be gag, black grouper, or scamp.

• Up to 2 fish can be red grouper, yellowfin grouper, yellowmouth grouper, coney, graysby, red hind, or rock hind.

• Only 1 fish can be red porgy, blueline tilefish, or golden tilefish.

• Only 1 fish can be greater amberjack.

• Up to 3 fish can be lesser amberjack, almaco jack, or banded rudderfish.

• Up to 5 fish can be black sea bass.

• Up to 5 fish can be gray triggerfish.

• Up to 10 fish can be grunts.

• Up to 10 fish can be Atlantic spadefish or bar jack.

• Up to 10 fish can be porgies (excluding red porgy).

• Up to 10 fish can be schoolmaster snapper, gray snapper, lane snapper, yellowtail snapper, queen snapper, silk snapper, or blackfin snapper.

• Up to 5 fish can be vermilion snapper, cubera snapper, or mutton snapper.

Until the unique snapper-grouper aggregate bag limit is reached, all species within the snapper-grouper fishery, except those with regulatory closures, could be harvested by participants. Should a regulatory closure occur for any species (other than red snapper), participants would be prohibited from harvesting those species. The requested recreational bag limits within FWC's proposed 15-fish snapper-grouper aggregate bag limit do not exceed current Federal recreational bag limits for any of the included snapper-grouper species. This aggregate bag limit is intended to cause recreational fishermen to reach their daily bag limit faster, which would then result in them stopping fishing. This would likely then lead to reduced discards and enhanced fisherman satisfaction across the snapper-grouper recreational sector. Throughout the duration of the proposed projects, the total amount of South Atlantic red snapper allowed to be harvested under these EFPs by the recreational fishermen is 3,600 on Experimental Hot Spot Fleet trips and 2,400 on Southeast Florida Snapper-Grouper Fleet trips.

Recreational fishermen can choose the date and time of each trip within each 3-month period of the project. Prior to taking a fishing trip, the selected participant, using their unique FWC provided identification number, must notify FWC 24 hours in advance of a planned trip and report the date and state registration number of the vessel they intend to fish from in order to receive an FWC authorization document, which must then be available to present to law enforcement if requested, either at sea or dockside. Selected participants can also elect to take their fishing trips on a charter vessel or headboat (for-hire). Aboard that for-hire vessel, only participants who have been selected to participate in an EFP and declared they are taking a trip authorized under an EFP on the identified for-hire vessel can take red snapper (if in an experimental group). As the vessel, private or for-hire, with the participant onboard is returning to port, the participant must hail in and let FWC know the estimated time and location of arrival. Upon return to port from a trip, all participants would be required to submit catch and discard data to the FWC within 48 hours through an FWC web-based application. To evaluate recreational fishermen satisfaction, FWC social scientists would conduct pre- and post-participation surveys and randomly select a subset of participants in each group to participate in semi-structured interviews.

NMFS finds the applications warrants further consideration based on a preliminary review. Possible conditions the agency may impose on the EFPs, if granted, include but are not limited to, a prohibition on fishing within marine protected areas, marine sanctuaries, or special management zones without additional authorization.

A final decision on issuance of the EFPs will depend on NMFS' review of public comments received on the applications, consultations with the appropriate fishery management agencies of the affected states, the Council, and the U.S. Coast Guard, and a determination that the activities to be taken under the EFPs are consistent with all other applicable laws.

Authority: 16 U.S.C. 1801 et seq.

Dated: April 1, 2024.
Everett Wayne Baxter,
Acting Director, Office of Sustainable Fisheries, National Marine Fisheries Service.

[FR Doc. 2024-07270 Filed 4-4-24; 8:45 am]

BILLING CODE 3510-22-P